DEPARTMENT OF AGRICULTURE

Submission for OMB Review; Comment Request

November 23, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Food Distribution Forms.

OMB Control Number: 0584-0293.

Summary of Collection: The Food Distribution Programs of the Department of Agriculture assist American farmers and needy people by purchasing commodities and delivering them to State agencies that in turn, distribute them to organizations for use in providing food assistance to those in need. The commodities help to meet the nutritional needs of: (a) Children from preschool age through high school USDA Child Nutrition Programs and in nonprofit summer camps, (b) needy person in households on Indian reservations, (c) needy household in the nuclear-affected islands, (d) needy persons served by charitable institutions, (e) pregnant and breastfeeding women, infants, and children, and elderly persons, (f) low-income, unemployed or homeless people provided foods through household distributions or meals through soup kitchens, (g) pre-school, school-age children, elderly and functionally impaired adults enrolled in child and adult day care centers, (h) victims of Presidential-declared disasters and other situations of distress. The Food and Nutrition Service (FNS) will collect information from State and local agencies using several FNS forms.

Need and Use of the Information: FNS will collect the following information from State and local agencies: (a) Number of households or meals served in the programs, (b) the kinds of commodities most acceptable to recipients, (c) the quantities of foods ordered and where the food is to be delivered, (d) verification of the receipt of a food order, and (e) the amounts of commodities in inventory.

Description of Respondents: Not-for-profit institutions; Individual or households; Business or other for-profit; State, Local, or Tribal Government.

Number of Respondents: 469,041.

Frequency of Responses: Recordkeeping; Reporting: On occasion; Quarterly; Semi-annually; Monthly; Annually.

Total Burden Hours: 1,079,172.

Ruth Brown,
Departmental Information Collection Clearance Officer.

[FR Doc. E9-28486 Filed 11-27-09; 8:45 am]

BILLING CODE 3410-30-P